DEPARTMENT OF COMMERCE

Foreign-Trade Zones Board

[B-40-2023]

Foreign-Trade Zone (FTZ) 255; Authorization of Production Activity; Lenox Corporation; (Kitchenware, Tableware, Home Décor Sets); Hagerstown, Maryland

On June 8, 2023, the Board of County Commissioners of Washington County, Maryland, grantee of FTZ 255, submitted a notification of proposed production activity to the FTZ Board on behalf of Lenox Corporation, within FTZ 255, in Hagerstown, Maryland.

The notification was processed in accordance with the regulations of the FTZ Board (15 CFR part 400), including notice in the Federal Register inviting public comment (88 FR 39823, June 20, 2023). On October 6, 2023, the applicant was notified of the FTZ Board's decision that no further review of the activity is warranted at this time. The production activity described in the notification was authorized, subject to the FTZ Act and the FTZ Board's regulations, including section 400.14.

Dated: October 6, 2023.
Elizabeth Whiteman,
Executive Secretary.

[FR Doc. 2023-22573 Filed 10-11-23; 8:45 am]

BILLING CODE 3510-DS-P